DEPARTMENT OF ENERGY

[Docket Nos. EA-151-A and EA-152-A]

Application To Export Electric Energy; Tractebel Energy Marketing, Inc.

AGENCY: Office of Fossil Energy, DOE.

ACTION: Notice of application.

SUMMARY: Tractebel Energy Marketing, Inc. (TEMI) has applied for renewal of its authority to transmit electric energy from the United States to Mexico and to Canada pursuant to section 202(e) of the Federal Power Act.

DATES: Comments, protests or requests to intervene must be submitted on or before March 10, 2000.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On July 14, 1997, the Office of Fossil Energy (FE) of the Department of Energy issued Order No. EA-151 authorizing TEMI to transmit electric energy from the United States to Mexico as a power marketer using the international electric transmission facilities owned and operated by San Diego Gas and Electric Company, El Paso Electric Company, Central Power and Light Company, and Comision Federal de Electricidad, the national electric utility of Mexico. That two-year authorization expired on July 14, 1999.

On August 13, 1997, FE issued Order No. EA-152 authorizing TEMI to transmit electric energy to Canada as a power marketer using the international electric transmission facilities owned and operated by Basin Electric Power Cooperative, Bonneville Power Administration, Citizens Utilities, Detroit Edison, Eastern Maine Electric Cooperative, Joint Owners of the Highgate Project, Maine Electric Power Company, Maine Public Service Company, Minnesota Power, Minnkota Power Cooperative, New York Power Authority, Niagara Mohawk Power Corp., Northern States Power, and Vermont Electric Transmission Company. That two-year authorization expired on August 13, 1999.

On January 13, 2000, TEMI filed two separate applications with FE for renewal of the export authority contained in Order Nos. EA-151 and EA-152. TEMI has requested those authorizations be issued for five year terms and that the international transmission facilities of Long Sault, Inc. be added to the list of authorized export points in the authorization to export to Canada.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on TEMI's request to export to Mexico should be clearly marked with Docket EA-151-A. Comments on the TEMI request to export to Canada should be clearly marked with Docket EA-152-A. Additional copies are to be filed directly with Howard H. Shafferman, Ballard Spahr Andrews & Ingersoll, 601 13th Street, NW, Suite 1000 South, Washington, DC 20005-2205 and Jeff Brattain, Tractebel Energy Marketing, Inc., 1177 West Loop South, Suite 800, Houston, TX 77027.

DOE notes that the circumstances described in these applications are virtually identical to those for which export authority had previously been granted in FE Order EA-151 and FE Order EA-152. Consequently, DOE believes that it has adequately satisfied its responsibilities under the National Environmental Policy Act of 1969 through the documentation of a categorical exclusion in the FE Docket EA-151 and FE Docket EA-152 proceedings.

Copies of this application will be made available, upon request, for public inspection and copying at the address provided above or by accessing the Fossil Energy Home Page at http://www.fe.doe.gov. Upon reaching the Fossil Energy Home page, select “Regulatory Programs,” then “Electricity Regulation,” and then “Pending Proceedings” from the options menus.

Issued in Washington, D.C., on February 3, 2000.
Anthony J. Como,
Deputy Director, Electric Power Regulation, Office of Coal and Power Im/Ex, Office of Coal and Power Systems, Office of Fossil Energy.

[FR Doc. 00-2921 Filed 2-8-00; 8:45 am]

BILLING CODE 6450-01-P